FEDERAL ELECTION COMMISSION

[Notice 2005-14]

Filing Dates for the Ohio Special Election in the 2nd Congressional District

AGENCY: Federal Election Commission.

ACTION: Notice of filing dates for special election.

SUMMARY: Ohio has scheduled special elections on June 14, 2005, and August 2, 2005, to fill the U.S. House of Representatives seat in the 2nd Congressional District vacated by Representative Rob Portman.

Committees required to file reports in connection with the Special Primary Election on June 14, 2005, shall file a 12-day Pre-Primary Report. Committees required to file reports in connection with both the Special Primary and Special General Election on August 2, 2005, shall file a 12-day Pre-Primary Report, a 12-day Pre-General Report, and a Post-General Report.

FOR FURTHER INFORMATION CONTACT: Mr. Kevin R. Salley, Information Division, 999 E Street, NW., Washington, DC 20463; telephone: (202) 694-1100; toll free (800) 424-9530.

SUPPLEMENTARY INFORMATION:

Principal Campaign Committees

All principal campaign committees of candidates who participate in the Ohio Special Primary and Special General Elections shall file a 12-day Pre-Primary Report on June 2, 2005; a Pre-General Report on July 21, 2005; and a Post-General Report on September 1, 2005. (See chart below for the closing date for each report.)

All principal campaign committees of candidates only participating in the Special Primary Election shall file a 12-day Pre-Primary Report on June 2, 2005. (See chart below for the closing date for each report.)

Unauthorized Committees (PACs and Party Committees)

Political committees filing on a semiannual basis in 2005 are subject to special election reporting if they make previously undisclosed contributions or expenditures in connection with the Ohio Special Primary or Special General Elections by the close of books for the applicable report(s). (See chart below for the closing date for each report.)

Committees filing monthly that support candidates in the Ohio Special Primary or Special General Election should continue to file according to the monthly reporting schedule.

Disclosure of Electioneering Communications (Individuals and Other Unregistered Organizations)

As required by the Bipartisan Campaign Reform Act of 2002, the Federal Election Commission promulgated new electioneering communications rules governing television and radio communications that refer to a clearly identified Federal candidate and are distributed within 30 days prior to a special primary election or 60 days prior to a special general election. 11 CFR 100.29. The statute and regulations require, among other things, that individuals and other groups not registered with the FEC who make electioneering communications costing more than $10,000 in the aggregate in a calendar year disclose that activity to the Commission within 24 hours of the distribution of the communication. See 11 CFR 104.20.

The 30-day electioneering communications period in connection with the Ohio Special Primary runs from May 15, 2005, through June 14, 2005. The 60-day electioneering communications period in connection with the Ohio Special General runs from June 3, 2005, through August 2, 2005.

Calendar of Reporting Dates for Ohio Special Elections

Committees Involved in Only the Special Primary (06/14/05) Must File
Report | Close of books ¹ | Reg./cert. & overnight mailing date | Filing date
Pre-Primary | 05/25/05 | 05/30/05 ² | 06/02/05
July Quarterly | 06/30/05 | 07/15/05 | 07/15/05
¹ The period begins with the close of books of the last report filed by the committee. If the committee has filed no previous reports, the period begins with the date of the committee's first activity.
² Notice that the registered, certified and overnight mailing date falls on a weekend or Federal holiday. The report should be postmarked before that date.

Committees Involved in the Special Primary (06/14/05) and Special General (08/02/05) Must File
Report | Close of books ¹ | Reg./cert. & overnight mailing date | Filing date
Pre-Primary | 05/25/05 | 05/30/05 ² | 06/02/05
July Quarterly | ——waived——
Pre-General | 07/13/05 | 07/18/05 | 07/21/05
Post-General | 08/22/05 | 09/01/05 | 09/01/05
October Quarterly | 09/30/05 | 10/15/05 | 10/15/05.³
¹ The period begins with the close of books of the last report filed by the committee. If the committee has filed no previous reports, the period begins with the date of the committee's first activity.
² Notice that the registered, certified and overnight mailing date falls on a weekend or Federal holiday. The report should be postmarked before that date.
³ Notice that this deadline falls on a weekend. Filing dates are not extended when they fall on nonworking days.

Committees Involved Only in the Special General (08/02/05) Must File
Report | Close of books ¹ | Reg./cert. & overnight mailing date | Filing date
July Quarterly | ——waived——
Pre-General | 07/13/05 | 07/18/05 | 07/21/05
Post-General | 08/22/05 | 09/01/05 | 09/01/05
October Quarterly | 09/30/05 | 10/15/05 | 10/15/05.³
¹ The period begins with the close of books of the last report filed by the committee. If the committee has filed no previous reports, the period begins with the date of the committee's first activity.
³ Notice that this deadline falls on a weekend. Filing dates are not extended when they fall on nonworking days.

Dated: May 11, 2005.
Michael E. Toner,
Vice Chairman, Federal Election Commission.

[FR Doc. 05-9774 Filed 5-16-05; 8:45 am]

BILLING CODE 6715-01-P